DEPARTMENT OF HOMELAND SECURITY

Federal Emergency Management Agency

[Docket ID FEMA-2019-0002; Internal Agency Docket No. FEMA-B-1905]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before May 28, 2019.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1905, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Hamilton County, Florida and Incorporated Areas
Project: 12-04-7914S Preliminary Date: September 28, 2018
Unincorporated Areas of Hamilton County | Hamilton County Building Department, 204 Northeast 1st Street, Jasper, FL 32052.
Madison County, Florida and Incorporated Areas
Project: 12-04-7914S Preliminary Date: September 28, 2018
City of Madison | City Hall, 321 Southwest Rutledge Street, Madison, FL 32340.
Town of Lee | Town Hall, 286 Northeast County Road 255, Lee, FL 32059.
Unincorporated Areas of Madison County | Madison County Courthouse Annex, 229 Southwest Pinckney Street, Madison, FL 32340.
Pasco County, Florida and Incorporated Areas
Project: 13-04-1877S Preliminary Date: April 27, 2018
City of New Port Richey | City Hall, 5919 Main Street, New Port Richey, FL 34652.
City of Port Richey | City Hall, Planning Department, 6333 Ridge Road, Port Richey, FL 34668.
Unincorporated Areas of Pasco County | Pasco County Building Construction Services, 8731 Citizens Drive, Suite 230, New Port Richey, FL 34654.
Pinellas County, Florida and Incorporated Areas
Project: 13-04-3188S Preliminary Date: June 29, 2018
City of Belleair Beach | City Hall, 444 Causeway Boulevard, Belleair Beach, FL 33786.
City of Belleair Bluffs | City Hall, 2747 Sunset Boulevard, Belleair Bluffs, FL 33770.
City of Clearwater | Municipal Services Building, Engineering Department, 100 South Myrtle Avenue, Suite 220, Clearwater, FL 33756.
City of Dunedin | Technology Services Building, 737 Louden Avenue, Dunedin, FL 34698.
City of Gulfport | City Hall, Building Department, 2401 53rd Street South, Gulfport, FL 33707.
City of Indian Rocks Beach | City Hall, 1507 Bay Palm Boulevard, Indian Rocks Beach, FL 33785.
City of Largo | City Hall, 201 Highland Avenue North, Largo, FL 33770.
City of Madeira Beach | Building Department, 300 Municipal Drive, Madeira Beach, FL 33708.
City of Oldsmar | City Hall, Planning and Redevelopment Department, 100 State Street West, Oldsmar, FL 34677.
City of Pinellas Park | Planning and Development Services, 6051 78th Avenue North, Pinellas Park, FL 33781.
City of Safety Harbor | Building Official's Department, 750 Main Street, Safety Harbor, FL 34695.
City of Seminole | City Hall, Community Development Department, 9199 113th Street, Seminole, FL 33772.
City of South Pasadena | Building Department, 6940 Hibiscus Avenue South, South Pasadena, FL 33707.
City of St. Pete Beach | City Hall, Building Department, 155 Corey Avenue, St. Pete Beach, FL 33706.
City of St. Petersburg | Municipal Services Center, 1 4th Street North, St. Petersburg, FL 33701.
City of Tarpon Springs | Building Department, 324 East Pine Street, Tarpon Springs, FL 34689.
City of Treasure Island | City Hall, Community Improvement Department, 120 108th Avenue, Treasure Island, FL 33706.
Town of Belleair | Town Hall, 901 Ponce de Leon Boulevard, Belleair, FL 33756.
Town of Belleair Shore | City Clerk's Office, 1200 Gulf Boulevard, Belleair Shore, FL 33786.
Town of Indian Shores | Building Department, 19305 Gulf Boulevard, Indian Shores, FL 33785.
Town of Kenneth City | Town Hall, 6000 54th Avenue North, Kenneth City, FL 33709.
Town of North Redington Beach | Town Hall, 190 173rd Avenue East, North Redington Beach, FL 33708.
Town of Redington Beach | Redington Beach Building Department, 18001 Gulf Boulevard, Redington Shores, FL 33708.
Town of Redington Shores | Town Hall, Building Department, 17425 Gulf Boulevard, Redington Shores, FL 33708.
Unincorporated Areas of Pinellas County | Pinellas County Building Department, 440 Court Street, Clearwater, FL 33756.
Fulton County, Georgia and Incorporated Areas
Project: 13-04-8403S Preliminary Date: June 15, 2017
City of Roswell | City Hall, 38 Hill Street, Suite 235, Roswell, GA 30075.
Allegany County, Maryland and Incorporated Areas
Project: 09-03-0015S Preliminary Date: December 11, 2018
Town of Luke | City Building, 510 Grant Street, Luke, MD 21540.
Unincorporated Areas of Allegany County | Allegany County Office Building, 701 Kelly Road, Cumberland, MD 21502.
Cheatham County, Tennessee and Incorporated Areas
Project: 13-04-6204S and 13-04-1482S Preliminary Date: June 29, 2018
Town of Ashland City | City Hall, 101 Court Street, Ashland City, TN 37015.
Town of Pleasant View | City Hall, 1008 Civic Court, Pleasant View, TN 37146.
Unincorporated Areas of Cheatham County | Cheatham County Building and Codes Department, 111 Frey Street, Ashland City, TN 37015.
Coffee County, Tennessee and Incorporated Areas
Project: 18-04-0023S Preliminary Date: June 29, 2018
City of Manchester | City Hall, Health and Codes Department, 200 West Fort Street, Manchester, TN 37355.
Unincorporated Areas of Coffee County | Coffee County Administration Plaza, Zoning and Codes Department, 1329 McArthur Street, Suite 2, Manchester, TN 37355.
Dickson County, Tennessee and Incorporated Areas
Project: 13-04-1482S Preliminary Date: June 29, 2018
Town of Charlotte | City Hall, 22 Court Square, Charlotte, TN 37036.
Town of Slayden | Mayor's Personal Residence, 701 Schmittou Street, Slayden, TN 37165.
Unincorporated Areas of Dickson County | Dickson County Courthouse, 4 Court Square, Charlotte, TN 37036.
Houston County, Tennessee and Incorporated Areas
Project: 13-04-1482S Preliminary Date: June 29, 2018
City of Erin | City Hall, 15 Hill Street, Erin, TN 37061.
City of Tennessee Ridge | Houston County Property Assessor, 4725 East Main Street, Room 105, Erin, TN 37061.
Unincorporated Areas of Houston County | Houston County Courthouse, 4725 East Main Street, Erin, TN 37061.
Montgomery County, Tennessee and Incorporated Areas
Project: 13-04-1482S Preliminary Date: June 29, 2018
City of Clarksville | Regional Planning Commission, 329 Main Street, Clarksville, TN 37040.
Unincorporated Areas of Montgomery County | Montgomery County Building and Codes Department, 350 Pageant Lane, Suite 309, Clarksville, TN 37040.
Robertson County, Tennessee and Incorporated Areas
Project: 13-04-6204S Preliminary Date: June 29, 2018
Town of Coopertown | Coopertown City Hall, 2525 Burgess Gower Road, Springfield, TN 37172.
Unincorporated Areas of Robertson County | Robertson County Planning and Zoning Building, 527 South Brown Street, Springfield, TN 37172.
Stewart County, Tennessee and Incorporated Areas
Project: 13-04-1482S Preliminary Date: June 29, 2018
Town of Cumberland City | City Hall, 121 Main Street, Cumberland City, TN 37050.
Town of Dover | City Hall, 625 Donelson Parkway, Dover, TN 37058.
Unincorporated Areas of Stewart County | Stewart County Mayor's Office, 226 Lakeview Drive, Dover, TN 37058.
Sumner County, Tennessee and Incorporated Areas
Project: 13-04-6204S Preliminary Date: June 29, 2018
City of Goodlettsville | Planning and Zoning Department, 117 Memorial Drive, Suite B, Goodlettsville, TN 37072.
City of Hendersonville | City Hall, 101 Maple Drive North, Hendersonville, TN 37075.
City of Millersville | City Hall, 1246 Louisville Highway, Millersville, TN 37072.
Unincorporated Areas of Sumner County | Sumner County Building and Codes Department, 355 North Belvedere Drive, Room 208, Gallatin, TN 37066.
Williamson County, Tennessee and Incorporated Areas
Project: 13-04-6204S Preliminary Date: June 29, 2018
City of Brentwood | City Hall, 5211 Maryland Way, Brentwood, TN 37027.
Town of Nolensville | Town Hall, 7218 Nolensville Road, Nolensville, TN 37135.
Unincorporated Areas of Williamson County | Williamson County Engineering Department, 1320 West Main Street, Suite 400, Franklin, TN 37064.
City of Radford, Virginia (Independent City)
Project: 18-03-0015S Preliminary Date: September 28, 2018
City of Radford | City Office, 10 Robertson Street, Radford, VA 24141.

[FR Doc. 2019-03375 Filed 2-26-19; 8:45 am]

BILLING CODE 9110-12-P